ENVIRONMENTAL PROTECTION AGENCY

[ER-FRL-2097-7]

Environmental Impact Statements; Notice of Availability

Responsible Agency: Office of Federal Activities, General Information (202) 564-7146 or http://www.epa.gov/nepa.

Weekly receipt of Environmental Impact Statements (EISs).

Filed 06/13/2016 Through 06/17/2016.

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20160138, Draft, HUD, NY, Lambert Houses Redevelopment, Comment Period Ends: 08/08/2016, Contact: Aaron Werner, 212-863-5953, The City of New York—Department of Housing & Development is the lead agency for the above project.

EIS No. 20160139, Final, BLM, UT, Monument Butte Area Oil and Gas Development Project, Review Period Ends: 08/08/2016, Contact: Stephanie Howard 435-781-4469.

EIS No. 20160140, Final, AFS, MT, Flint Foothills Vegetation Management Project, Review Period Ends: 07/25/2016, Contact: Charlene Bucha Gentry 406-859-3211.

EIS No. 20160141, Final Supplement, USACE, FHWA, VA, US Route 460, Review Period Ends: 07/25/2016, Contact: Edward Sundra (804) 775-3357, The U.S. Department of Transportation's Federal Highway Administration and the U.S. Army Corps of Engineers are joint lead agencies for the above project.

EIS No. 20160142, Final, BLM, NV, Bald Mountain Mine North and South Operations Area Project, Review Period Ends: 07/25/2016, Contact: Stephanie Trujillo 775-289-1831.

Amended Notices

EIS No. 20160097, Draft, USFS, CO, Rico-West Dolores Roads and Trails Travel Management Project, Comment Period Ends: 07/15/2016, Contact: Deborah Kill, 970-882-6822.

Revision to FR Notice Published 05/06/2016; Extending Comment Period from 06/20/2016 to 07/15/2016.

Dated: June 21, 2016.
Dawn Roberts,
Management Analyst, NEPA Compliance Division, Office of Federal Activities.

[FR Doc. 2016-15008 Filed 6-23-16; 8:45 am]

BILLING CODE 6560-50-P